NATIONAL COMMUNICATIONS SYSTEM

Telecommunications Service Priority System Oversight Committee

AGENCY: National Communications System (NCS).

ACTION: Notice of meeting.

A meeting of the Telecommunications Service Priority (TSP) System Oversight Committee will convene Wednesday, May 7, 2002 from 9 a.m. to 12 p.m. The meeting will be held at 701 South Court House Road, Arlington, VA in the NCS conference room on the 2nd floor.

—TSP Program Update

—TSP Revalidation Procedures

—TSP Provisioning Philosphy

Anyone interested in attending or presenting additional information to the Committee, please contact Deborah Bea, Office of Priority Telecommunications, (703) 607-4933.

Nick Andre,
Alternate Certifying Officer, National Communications System.

[FR Doc. 03-8870 Filed 4-10-03; 8:45 am]

BILLING CODE 5001-08-M